DEPARTMENT OF HEALTH AND HUMAN SERVICES

Health Resources and Services Administration

Agency Information Collection Activities; Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Primary Care Faculty Development Initiative.

OMB No. 0915-xxxx—New.

Abstract: HRSA's Bureau of Health Professions, Division of Medicine and Dentistry, has contracted with Oregon Health and Science University (OHSU), contract HHSH250201200023C, to conduct the planning, execution, and evaluation of a nationally based, longitudinal Primary Care Faculty Development Initiative (PCFDI) demonstration project. OHSU has developed web-based survey instruments which will be used to evaluate the effectiveness of the planned curriculum and its implementation and to make recommendations to improve teaching and competency assessment in primary care educational activities. The two web-based surveys are Irvine's Leadership Behavior Survey and the Faculty Skill & Program Feasibility Survey. The objectives of the survey instruments are to assess the feasibility and acceptability of an inter-disciplinary faculty development pilot program targeting primary care physicians, to measure the leadership skills of PCFDI faculty participants, and to assess the initial impact of faculty receiving training from an inter-disciplinary faculty development pilot program on their perception of skill development in the core content areas of leadership, change management, teamwork, panel or population management, competency assessment, and clinical microsystems.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Responses per respondent | Total responses | Hours per response | Total burden hours
Irvine's Leadership Behavior Survey | 36 | 1 | 36 | .167 | 6
Faculty Skill & Program Feasibility Survey | 36 | 1 | 36 | .25 | 9
Total | 72 | 1 | 72 |  | 15

Dated: June 6, 2013.
Bahar Niakan,
Director, Division of Policy and Information Coordination.

[FR Doc. 2013-13929 Filed 6-11-13; 8:45 am]

BILLING CODE 4165-15-P